DEPARTMENT OF COMMERCE.

International Trade Administration

C-357-813

Honey from Argentina: Final Results of Full Sunset Review of the Countervailing Duty Order

AGENCY: Import Administration, International Trade Administration, Department of Commerce.

SUMMARY: On February 28, 2007, the Department of Commerce (the Department) published in the Federal Register the preliminary results of the full sunset review of the countervailing duty (CVD) order on Honey from Argentina, pursuant to section 751(c) of the Tariff Act of 1930, as amended (the Act). As a result of our analysis, the Department preliminarily found that revocation of the countervailing duty order would be likely to lead to continuation or recurrence of a countervailable subsidy.

We provided interested parties an opportunity to comment on our preliminary results. However, we received no comments from interested parties. As a result, the final results remain the same as the preliminary results of this review.

EFFECTIVE DATE: June 11, 2007.

FOR FURTHER INFORMATION CONTACT: Elfi Blum or Dana Mermelstein, AD/CVD Operations, Office 6, Import Administration, International Trade Administration, U.S. Department of Commerce, 14th Street and Constitution Avenue, NW, Washington, DC 20230; telephone: (202) 482-0197 or (202) 482-1391, respectively.

SUPPLEMENTARY INFORMATION: On February 28, 2007, the Department published its Preliminary Results of Full Sunset Review: Countervailing Duty Order on Honey from Argentina, 72 FR 8970 (February 28, 2007) (Preliminary Results). In our Preliminary Results, we found that revocation of the order would likely lead to continuation or recurrence of a countervailable subsidy on the subject merchandise.

Interested parties were invited to comment on our Preliminary Results. The Department received no comments from either the domestic interested parties or respondent interested parties.

Scope of the Order

The merchandise covered by this order is artificial honey containing more than 50 percent natural honeys by weight, preparations of natural honey containing more than 50 percent natural honeys by weight, and flavored honey. The subject merchandise includes all grades and colors of honey whether in liquid, creamed, combs, cut comb, or chunk form, and whether packaged for retail or in bulk form. The merchandise subject to this order is currently classifiable under subheadings 0409.00.00, 1702.90, and 2106.90.99 of the Harmonized Tariff Schedule of the United States (HTSUS). Although the HTSUS subheadings are provided for convenience and U.S. Customs and Border Protection (CBP) purposes, the Department's written description of the merchandise covered by this order is dispositive.

Final Results of Review

As stated in the Preliminary Results, the Department determined that revocation of the countervailing duty order would likely lead to continuation or recurrence of a countervailable subsidy. In addition, we preliminarily determined that the net countervailable subsidy likely to prevail if the order were revoked is 5.85 percent. As we did not receive any comments from any interested parties regarding the Preliminary Results, we have no reason to reconsider our preliminary decision.

International Trade Commission (ITC) Notification

In accordance with section 752(b)(3) of the Act, we will notify the ITC of the final results of this full sunset review.

Notification Regarding Administrative Protective Order

This notice also serves as the only reminder to parties subject to administrative protective orders (APO) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: June 4, 2007.
David M. Spooner,
Assistant Secretary for Import Administration.

[FR Doc. E7-11249 Filed 6-8-07; 8:45 am]

BILLING CODE 3510-DS-S